NATIONAL LABOR RELATIONS BOARD

29 CFR Part 102

Rules and Regulations

AGENCY: National Labor Relations Board.

ACTION: Final rule.

SUMMARY: The National Labor Relations Board (NLRB) is issuing a final rule amending its rules and regulations to reflect the closure of the New York, New York office of the Division of Judges.

DATES: The effective date is July 15, 2024.

FOR FURTHER INFORMATION CONTACT: Roxanne L. Rothschild, Executive Secretary, National Labor Relations Board, 1015 Half St. SE, Washington, DC 20570-0001, (202) 273-1940 (this is not a toll-free number), 1-866-315-6572 (TTY/TDD).

SUPPLEMENTARY INFORMATION: The NLRB Division of Judges (DOJ) currently has 36 administrative law judges, including the chief judge, deputy chief judge, and one associate chief judge, who hear, decide, and settle unfair labor practice cases nationwide. The judges are formally assigned to one of three offices in Washington, DC, New York, NY, and San Francisco, CA, and receive their case assignments through those offices.

The NLRB has decided to close the New York DOJ office and reassign the administrative law judges and clerical staff to other offices. It is doing so for several reasons. First, the office's longtime head, Associate Chief Judge Kenneth Chu, retired at the end of May 2024. Second, the New York office currently has the smallest number of judges (four) and cases. Third, following the pandemic, the NLRB's administrative law judges have significantly expanded their telework, and this is particularly true among the judges assigned to the New York office. Fourth, closing the New York DOJ office will save the NLRB the cost of renting that facility and allow the NLRB to redirect those funds to other mission critical needs.

The remaining New York administrative law judges, and an eventual successor to Associate Chief Judge Chu, will be reassigned to the Washington, DC DOJ office. They will continue to telework and perform their duties as before, but will receive their case assignments from the Chief Administrative Law Judge or the Deputy Chief Judge until a new Associate Chief Judge is selected, and be assisted by the administrative professionals in the DC office.

Accordingly, consistent with the foregoing, the NLRB is revising § 102.24(a) of its rules and regulations to delete the references to the New York DOJ office and reflect the current structure of the Agency's field organization. Furthermore, consistent with former procedural revisions of its rules and regulations, the NLRB is eliminating redundant invocations of specific place names in § 102.24(a).

This action is not subject to the advance notice and comment provisions of the Administrative Procedure Act (5 U.S.C. 553), or the requirements of Executive Order 12866, the Regulatory Flexibility Act (5 U.S.C. 601 et seq.), or the Small Business Regulatory Enforcement Fairness Act (5 U.S.C. 801). As indicated above, the action relates solely to agency organization, management, or personnel matters. It will have no adverse impact on the ability of the NLRB Division of Judges to cover the trial docket in the northeastern region of the country or elsewhere. Nor will it impose any additional paperwork, reporting, or other costs, burdens, or responsibilities on parties, practitioners, or others who participate in hearings before the NLRB's administrative law judges.

List of Subjects in 29 CFR Part 102

Administrative practice and procedure, Labor management relations.

For the reasons stated in the preamble, the National Labor Relations Board amends 29 CFR part 102 as follows:

PART 102—RULES AND REGULATIONS, SERIES 8

1. The authority citation for part 102 continues to read as follows:

Authority: 29 U.S.C. 151, 156. Section 102.117 also issued under 5 U.S.C. 552(a)(4)(A), and § 102.119 also issued under 5 U.S.C. 552a(j) and (k). Sections 102.143 through 102.155 also issued under 5 U.S.C. 504(c)(1).

2. Amend § 102.24 by revising paragraph (a) to read as follows:

§ 102.24 Motions; where to file; contents; service on other parties; promptness in filing and response; default judgement procedures; summary judgement procedures.

(a) All motions under §§ 102.22 and 102.29 made prior to the hearing must be filed in writing with the Regional Director issuing the complaint. All motions for default judgment, summary judgment, or dismissal made prior to the hearing must be filed in writing with the Board pursuant to the provisions of § 102.50. All other motions made prior to the hearing, including motions to reschedule the hearing under circumstances other than those set forth in § 102.16(a), must be filed in writing with the Chief Administrative Law Judge, the Deputy Chief Administrative Law Judge, or an Associate Chief Administrative Law Judge, as the case may be. All motions made at the hearing must be made in writing to the Administrative Law Judge or stated orally on the record. All motions filed subsequent to the hearing, but before the transfer of the case to the Board pursuant to § 102.45, must be filed with the Administrative Law Judge, care of the Chief Administrative Law Judge, the Deputy Chief Administrative Law Judge, or an Associate Chief Administrative Law Judge, as the case may be. Motions must briefly state the order or relief applied for and the grounds therefor. All motions filed with a Regional Director or an Administrative Law Judge as set forth in this paragraph (a) must be filed together with an affidavit of service on the parties. All motions filed with the Board, including motions for default judgment, summary judgment, or dismissal, must be filed with the Executive Secretary of the Board in Washington, DC, together with an affidavit of service on the parties. Unless otherwise provided in this part, motions, oppositions, and replies must be filed promptly and within such time as not to delay the proceeding.

* * * * *

Dated: June 10, 2024.
For the Board:
Roxanne L. Rothschild,
Executive Secretary.

[FR Doc. 2024-13004 Filed 6-12-24; 8:45 am]

BILLING CODE 7545-01-P